FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[February 1, 2017 through February 28, 2017]
02/01/2017
20170560 | G | Gartner, Inc.; CEB Inc.; Gartner, Inc.
02/02/2017
20170620 | G | MPLX LP; Marathon Petroleum Corporation; MPLX LP.
02/03/2017
20161360 | G | John Swire & Sons Limited; The Coca-Cola Company; John Swire & Sons Limited.
20170598 | G | Merck & Co., Inc.; Illumina, Inc.; Merck & Co., Inc.
20170601 | G | Elliott Associates, L.P.; NRG Energy, Inc.; Elliott Associates, L.P.
20170602 | G | Elliott International Limited; NRG Energy, Inc.; Elliott International Limited.
20170603 | G | Bluescape Energy Recapitalization and Restructuring Fund III; NRG Energy, Inc.; Bluescape Energy Recapitalization and Restructuring Fund III.
20170617 | G | Bristol-Myers Squibb Company; Illumina, Inc.; Bristol-Myers Squibb Company.
20170623 | G | Lindsay Goldberg IV L.P.; U.S. Steel Canada Inc.; Lindsay Goldberg IV L.P.
20170627 | G | KKR Energy Income and Growth Fund I L.P.; SM Energy Company; KKR Energy Income and Growth Fund I L.P.
20170628 | G | Platform Partners, LLC; George Parsons and Janet Strohmeyer; Platform Partners, LLC.
20170632 | G | CD Clean Energy and Infrastructure V JV, LLC; First Solar, Inc.; CD Clean Energy and Infrastructure V JV, LLC.
20170641 | G | YAFEI YUAN; Valeant Pharmaceuticals International, Inc.; YAFEI YUAN.
20170642 | G | SAS Rue La Boetie; UniCredit S.p.A.; SAS Rue La Boetie.
20170646 | G | DIF Infrastructure IV Cooperatief U.A.; SunEdison, Inc.; DIF Infrastructure IV Cooperatief U.A.
20170647 | G | ABRY Partners VIII, L.P.; Integrity Tracking, LLC; ABRY Partners VIII, L.P.
20170654 | G | AEA Investors Fund VI LP; Andrew Singer; AEA Investors Fund VI LP.
20170676 | G | Textron Inc.; Arctic Cat Inc.; Textron Inc.
02/06/2017
20170509 | G | GTCR Fund VIII AIV, L.P.; ConvergEx Holdings, LLC; GTCR Fund VIII AIV, L.P.
20170546 | G | ConvergEx Holdings, LLC; DFT Holdings LLC; ConvergEx Holdings, LLC.
20170648 | G | Noble Energy, Inc.; Clayton Williams Energy, Inc.; Noble Energy, Inc.
20170651 | G | Riverstone Global Energy and Power Fund VI, L.P.; Plains All American Pipeline, L.P.; Riverstone Global Energy and Power Fund VI, L.P.
20170652 | G | Kinder Morgan, Inc.; Plains All American Pipeline, L.P.; Kinder Morgan, Inc.
20170655 | G | Valepar S.A.; The Mosaic Company; Valepar S.A.
20170656 | G | Sanchez Energy Corporation; Anadarko Petroleum Corporation; Sanchez Energy Corporation.
20170657 | G | Blackstone Energy Partners II Q L.P.; Anadarko Petroleum Corporation; Blackstone Energy Partners II Q L.P.
20170671 | G | Plains All American Pipeline, L.P.; Concho Resources Inc.; Plains All American Pipeline, L.P.
20170672 | G | Plains All American Pipeline, L.P.; Energy Spectrum Partners VI LP; Plains All American Pipeline, L.P.
02/07/2017
20170569 | G | Virtus Investment Partners, Inc.; Lightyear Fund III AIV-2, L.P.; Virtus Investment Partners, Inc. 20170619 G Canada Pension Plan Investment Board; ODSA Topco Limited; Canada Pension Plan Investment Board 20170678 G Baron Albert Frere; FPCI Astorg V; Baron Albert Frere.
20170679 | G | Desmarais Family Residuary Trust; FPCI Astorg V; Desmarais Family Residuary Trust.
02/08/2017
20170582 | G | Sun Pharmaceutical Industries Ltd.; Novartis AG; Sun Pharmaceutical Industries Ltd.
20170616 | G | MPLX LP; Enbridge Energy Partners LP; MPLX LP.
20170629 | G | Allergan plc; Assembly Biosciences, Inc.; Allergan plc.
02/10/2017
20170593 | G | Hewlett Packard Enterprise Company; SimpliVity Corporation; Hewlett Packard Enterprise Company.
20170604 | G | Terumo Corporation; WerfenLife Ventures, S.L.; Terumo Corporation.
20170612 | G | Thermo Fisher Scientific Inc.; Finesse Solutions, Inc.; Thermo Fisher Scientific Inc.
20170662 | G | Stichting Administratiekantoor Lauwerecht; Hi-Pro Feeds L.P.; Stichting Administratiekantoor Lauwerecht.
20170663 | G | Blackstone Power & Natural Resources Holdco, L.P.; Valley Electric Association, Inc.; Blackstone Power & Natural Resources Holdco, L.P.
20170674 | G | Accenture plc; John E. Luth; Accenture plc.
20170686 | G | Toyota Industries Corporation; William A Bastian II; Toyota Industries Corporation.
20170690 | G | Platinum Equity Capital Partners IV, L.P.; ILG Holdings, LLC; Platinum Equity Capital Partners IV, L.P.
20170706 | G | Motherson Sumi Systems Limited; PKC Group Oyj; Motherson Sumi Systems Limited.
02/13/2017
20170691 | G | WEC Energy Group, Inc.; Plains All American Pipeline, L.P.; WEC Energy Group, Inc.
02/14/2017
20170664 | G | Welsh Carson Anderson & Stowe XII, L.P.; Secom Co., Ltd.; Welsh Carson Anderson & Stowe XII, L.P.
20170666 | G | The Heritage Group; Steven M. Keith; The Heritage Group.
20170694 | G | Cisco Systems, Inc.; AppDynamics, Inc.; Cisco Systems, Inc.
02/15/2017
20170675 | G | Varex Imaging Corporation; PerkinElmer, Inc.; Varex Imaging Corporation.
02/16/2017
20170638 | G | DCM VI, L.P.; Social Finance, Inc.; DCM VI, L.P.
20170683 | G | Salient Solutions, LLC; Triple-I Holdings, LLC; Salient Solutions, LLC.
20170698 | G | TIDI Products Holdings, LLC; Ernest M. Posey; TIDI Products Holdings, LLC.
02/17/2017
20170684 | G | JANA Offshore Partners, Ltd.; Bristol-Myers Squibb Company; JANA Offshore Partners, Ltd.
20170685 | G | JANA Nirvana Offshore Fund, Ltd.; Bristol-Myers Squibb Company; JANA Nirvana Offshore Fund, Ltd.
20170707 | G | Littlejohn Fund V, L.P.; Graham Partners III, L.P.; Littlejohn Fund V, L.P.
20170712 | G | The Resolute Fund III, L.P.; Robert J. Mitzman; The Resolute Fund III, L.P.
20170713 | G | Sentinel Capital Partners V, L.P.; CAbi Holding Co. LLC; Sentinel Capital Partners V, L.P. 20170714 G Pentagon Federal Credit Union; Valor Federal Credit Union; Pentagon Federal Credit Union 20170715 G CIE Automotive S.A.; Estate of David A. Segal; CIE Automotive S.A.
20170727 | G | Veeco Instruments Inc.; Ultratech, Inc.; Veeco Instruments Inc.
20170732 | G | Harvey C. Jones; NVIDIA Corporation; Harvey C. Jones.
02/21/2017
20170489 | G | Kristian Jebsen; NewCo; Kristian Jebsen.
20170625 | G | DataBridge Holdings LLC; Signal Peak Technology Ventures, L.P.; DataBridge Holdings LLC.
20170716 | G | Validus Holdings, Ltd.; Archer-Daniels-Midland Company; Validus Holdings, Ltd.
20170730 | G | Harvest Partners VII, L.P.; CI (MHE) Holdings, LLC; Harvest Partners VII, L.P.
02/22/2017
20170640 | G | Corvex Master Fund LP; Alice Schwartz; Corvex Master Fund LP.
20170687 | G | Haldor Foundation; International Flavors & Fragrances Inc.; Haldor Foundation.
20170693 | G | Zurich Insurance Group Ltd; Cover-More Group Limited; Zurich Insurance Group Ltd.
02/23/2017
20170673 | G | Green Dot Corporation; Empowerment Ventures, LLC; Green Dot Corporation.
20170688 | G | Paul C. Hilal; CSX Corporation; Paul C. Hilal.
02/24/2017
20170660 | G | Educational Testing Service; Questar Assesment, Inc.; Educational Testing Service.
20170708 | G | Ascential plc; Michael E. Kassan; Ascential plc.
20170728 | G | Ingenic Semiconductor Co., Ltd.; Beijing OmniVision Technologies, Co. Ltd.; Ingenic Semiconductor Co., Ltd.
20170739 | G | RPC Group Plc; Letica Corporation; RPC Group Plc.
20170753 | G | Hainan Cihang Foundation; SkyBridge Capital II, LLC; Hainan Cihang Foundation.
02/27/2017
20170680 | G | Targa Resources Corp.; DCPF VI Oil and Gas Coinvestment Fund LP; Targa Resources Corp.
20170681 | G | Targa Resources Corp.; Kayne Anderson Energy Fund VI, L.P.; Targa Resources Corp.
20170682 | G | Targa Resources Corp.; Denham Commodity Partners Fund VI LP; Targa Resources Corp.
20170742 | G | The Resolute Fund III, L.P.; DB Parent, Inc.; The Resolute Fund III, L.P.
20170744 | G | Precision Parent, LLC; PGPC-Signicast-2 LLC; Precision Parent, LLC.
20170745 | G | Hexagon AB; STG III, L.P.; Hexagon AB.
20170750 | G | Keysight Technologies, Inc.; Ixia; Keysight Technologies, Inc.
20170754 | G | Golden Gate Capital Opportunity Fund, L.P.; GTCR Fund XI/B LP; Golden Gate Capital Opportunity Fund, L.P.
02/28/2017
20170752 | G | Energy Transfer Equity, L.P.; EnCap Flatrock Midstream Fund II, L.P.; Energy Transfer Equity, L.P.
20170757 | G | LS Power Equity Partners III, L.P.; FirstEnergy Corp.; LS Power Equity Partners III, L.P.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-05529 Filed 3-20-17; 8:45 am]

BILLING CODE 6750-01-P